OFFICE OF PERSONNEL MANAGEMENT

5 CFR Part 843

RIN 3206-AM29

Technical Amendments to Federal Employees' Retirement System; Present Value Conversion Factors for Spouses of Deceased Separated Employees; Corrections

AGENCY: Office of Personnel Management.

ACTION: Correcting amendments.

SUMMARY: The Office of Personnel Management published a final rule in the Federal Register on August 23, 2011, (76 FR 52539) revising the factor at 5 CFR 843.309(b)(2) used to convert a lump sum basic employee death benefit under 5 U.S.C. 8442(b) to 36 installment payments. That change inadvertently stated that the revised factor would apply to deaths occurring on or after October 1, 2004. The revised factor, however, applies to deaths occurring on or after October 1, 2011. Therefore, this document corrects the final regulation by revising this date. Additionally, this document corrects a misspelling in the heading to Appendix A to subpart C of part 843 that was included with the rule.

DATES: Effective on September 7, 2011.

FOR FURTHER INFORMATION CONTACT: Roxann Johnson, (202) 606-0299.

SUPPLEMENTARY INFORMATION: The Office of Personnel Management published a final rule in the Federal Register on August 23, 2011, (76 FR 52539) that changed the factor at 5 CFR 843.309(b)(2) used to convert a lump sum basic employee death benefit under 5 U.S.C. 8442(b) to 36 installment payments. The rule inadvertently stated that the revised factor at 5 CFR 843.309(b)(2) applies to deaths occurring on or after October 1, 2004. Section 843.309(b)(2) is being corrected to state that the revised factor applies when an employee's death occurs on or after October 1, 2011. Additionally, the misspelling of the word, “deceased” is being corrected in the heading to Appendix A to subpart C of part 843.

List of Subjects in 5 CFR Part 843

Air traffic controllers, Disability benefits, Firefighters, Government employees, Law enforcement officers, Pensions, Retirement.

Accordingly, 5 CFR part 843 is corrected by making the following correcting amendments:

PART 843—FEDERAL EMPLOYEE RETIREMENT SYSTEM—DEATH BENEFITS AND EMPLOYEE REFUNDS

1. The authority citation for part 843 continues to read as follows:

Authority: 5 U.S.C. 8461; §§ 843.205, 843.208, and § 843.209 also issued under 5 U.S.C. 8424; 843.309 also issued under 5 U.S.C. 8442; 843.406 also issued under 5 U.S.C. 8441.

Subpart C—Current and Former Spouse Benefits

2. Amend § 843.309 by revising paragraph (b)(2) to read as follows:

§ 843.309 Basic employee death benefit.

* * * * *

(b) * * *

(2) For deaths occurring on or after October 1, 2011, 36 equal monthly installments of 3.01643 percent of the amount of the basic employee death benefit.

* * * * *

3. Revise the Heading of Appendix A to subpart C of part 843 to read as follows:

Appendix A to Subpart C of Part 843—Present Value Conversion Factors for Earlier Commencing Date of Annuities of Current and Former Spouses of Deceased Separated Employees

* * * * *

U.S. Office of Personnel Management.
John Panagakos,
Manager, Retirement Policy.

[FR Doc. 2011-22873 Filed 9-6-11; 8:45 am]

BILLING CODE 6325-38-P